DEPARTMENT OF AGRICULTURE

Forest Service

Plan Revision for Colville, and the Okanogan-Wenatchee National Forests, Washington (Collectively Called the Northeast Washington Zone Forest Plan Revision)

AGENCY: Forest Service, USDA.

ACTION: Notice of intent to prepare an environmental impact statement (EIS) and revised land management plan using the provisions of the National Forest System land and resource management planning rule in effect prior to November 9, 2000 for the Colville, and Okanogan-Wenatchee National Forests, Pend Oreille, Stevens, Ferry, Okanogan, Chelan, Kittitas, and Yakima Counties in Washington.

SUMMARY: As directed by the National Forest Management Act (NFMA), the USDA Forest Service is preparing the Colville, and Okanogan-Wenatchee National Forests revised land management plans and will also prepare an EIS for these revised plans. A Notice of Intent to revise the Colville, Okanogan, and Wenatchee forest plans was published in the Federal Register on March 9, 2004. That Notice also stated our intent to later publish a Notice to prepare an Environmental Impact Statement. This notice briefly describes the purpose and need, the proposed action, the scoping process for the plan revisions (including any scoping meetings), information concerning public participation, estimated dates for filing the EIS and provides the names and addresses of the responsible agency official and the individuals who can provide additional information. This notice also briefly describes the applicable planning rule.

The revised land management plans will replace the land management plans previously approved by the Regional Forester. The Colville National Forest land management plan was signed on December 29, 1989, and has been amended 39 times. The Okanogan National Forest land management plan was signed on December 29, 1989, and has been amended 51 times. The Wenatchee National Forest land management plan was signed on March 2 1990, and has been amended 27 times. Most forest plan amendments are project-specific amendments and apply to that project only. Some amendments incorporated new management direction for specific resource areas, such as invasive weeds. Five amendments were incorporated into all the forest plans by the Regional Forester. The land management plans for the Okanogan National Forest and the Wenatchee National Forest were amended by the 1994 Northwest Forest Plan to incorporate standards and guidelines for management of habitat for late-successional and old-growth associated species within the range of the northern spotted owl and an aquatic conservation strategy to maintain and restore the ecological health of watersheds and aquatic ecosystems. These amendments included direction for managing streams and riparian areas, old growth forests, and treatment of invasive species. These amended plans will remain in effect until the revision takes effect. The Okanogan and Wenatchee National Forests were administratively combined in 2000; they will have a single forest plan.

DATES: Comments concerning the scope of this analysis must be received by August 29, 2011. The agency expects to complete the draft proposed plans and a draft environmental impact statement by June 2012 and the final plans and a final environmental impact statement by June 2013.

See SUPPLEMENTARY INFORMATION section for public involvement meeting dates.

ADDRESSES: Send written comments to Forest Plan Revision, Okanogan Valley Office, 1240 Second Avenue South, Okanogan, WA 98840. Comments may also be sent via e-mail to r6_ewzplanrevision@fs.fed.us.

FOR FURTHER INFORMATION CONTACT: Margaret Hartzell, Revision Team Leader, or Deborah Kelly, Revision Public Affairs Officer, Okanogan Valley Office, 1240 Second Avenue South, Okanogan, WA 98840, 509-826-3275. Information is also available at the plan revision Web site: http://www.fs.fed.us/r6/wenatchee/forest-plan. Individuals who use telecommunication devices for the deaf (TDD) may call the Federal Information Relay Service (FIRS) at 1-800-877-8339 between 8 a.m. and 8 p.m., Eastern Time Monday through Friday.

SUPPLEMENTARY INFORMATION:

Purpose and Need

The existing forest plans are 20 years old. Economic, social, and ecological conditions changed during the past two decades; new laws, regulations and policies are in place; and new information based on monitoring and scientific research is available. The Colville, and Okanogan-Wenatchee National Forests are revising their 1988, 1989, and 1990 Forest Plans to meet the legal requirements of the National Forest Management Act of 1976; to address changed conditions and provide consistent management direction (as appropriate) across the two national forests; to incorporate changes in law, regulation, and policy; and to utilize new scientific information. In particular, the interdisciplinary planning team is addressing the following areas in the revised forest plans:

1. Improve protection of terrestrial plant and animal species and their habitats. Two objectives in the Strategic Plan for the Forest Service are to “provide ecological conditions to sustain viable populations of native and desired nonnative species and to achieve objectives for management indicator and focal species.” The Columbia Basin Strategy (2000) identifies key elements to be addressed in planning efforts, such as source habitats, that are not addressed in the 1988, 1989, and 1990 forest plans. The structural arrangement of vegetation, both vertical and horizontal, and the size and arrangement of trees, grasses, and shrubs are important components of wildlife habitat. Many changes to forest stand structure have occurred due to disturbances such as uncharacteristic fire, timber harvest, and insects and disease. Old multistory, old single story, and stand initiation forest structures have declined with a corresponding increase in area and connectivity of dense, multilayered, intermediate forest structures. Forests are now dominated by shade-tolerant conifers, with elevated fuel loads, severe fire behavior, and increased incidence of certain defoliaters, bark beetles, and root diseases. All of these changes have led to reductions in habitat for some species and increases for others. The 1988, 1989, and 1990 forest plans need to be updated to reflect current science relating to plant and animal species and their habitats. The habitat goals and objectives of the Late Successional Reserve (LSR) system for the northern spotted owl and other terrestrial species would be met through a landscape management approach consistent with current science for the dry forest types. LSRs established through the Northwest Forest Plan amendment would no longer be specific management areas.

2. To address management of fuels and fire risk. Several factors have contributed to an increased susceptibility to disturbances, such as uncharacteristically severe fires, and insects and disease outbreaks. These are the cumulative effects of a periodic and sometimes extended drought, climate change, increasing vegetative density, shifts in forest species composition, and modified landscape patterns. The dry and mesic forest types on the Forests are susceptible to insect and disease outbreaks and large-scale uncharacteristic wildfires. The 1988, 1989, and 1990 forest plans' desired conditions, and standards and guidelines do not adequately address the multiple factors that have created the existing uncharacteristic conditions nor do they adequately address the varied nature of the landscape. Neither do they address the need for management strategies that recognize the unique qualities of various landscapes. An integrated strategy that recognizes multiple risk factors and addresses variability in conditions and site potentials is needed.

3. To more adequately protect watersheds and aquatic habitats. The Columbia Basin Strategy (2000) emphasizes restoring the processes responsible for creating and maintaining aquatic and riparian habitats and restoring naturally functioning riparian ecosystems. It also outlines specific components to be included in revised forest plans. The 1988, 1989, and 1990 forest plans include by amendment interim direction, i.e., the Inland Native Fish Strategy (INFISH, USDA Forest Service 1994c and 1995) and the Decision Notice for the Continuation of Interim Management Direction Establishing Riparian, Ecosystem and Wildlife Standards for Timber Sales (Eastside Screens, 1994); and the Okanogan-Wenatchee forest plans also include by amendment the Interim Strategies for Managing Anadromous Fish-Producing Watersheds in Eastern Oregon and Washington, Idaho, and portions of California (PACFISH, USDA and USDI 1995), for management of threatened or endangered fish species. However, the 1988, 1989, and 1990 plan language was never changed to integrate this interim direction or resolve conflicts between the existing plan language and the interim direction language. The 1988, 1989, and 1990 forest plans do not adequately provide integrated management strategies for maintenance and restoration of properly functioning watersheds that provide a range of benefits on and off the national forests. These include, but are not limited to, providing habitat for terrestrial, aquatic, and riparian-dependent species; maintaining water quality; providing channel stability; reducing erosion; moderating floods; and maintaining reliable stream flows for downstream users. The combination of interim direction (PACFISH/INFISH) and the Aquatic Conservation Strategy of the Northwest Forest Plan will be adjusted into one consistent aquatic and riparian conservation strategy across the Colville and Okanogan-Wenatchee National Forests.

4. To address climate change. The 1988, 1989, and 1990 forest plans do not consider climate change. Climate change is expected to affect plant species range and composition and alter competitive relationships between plant species. Changes in the composition and structure of plant communities will, in turn, alter the character and distribution of wildlife habitats. Future conditions may be more favorable to some undesired non-native plant and animal species. The full extent of changes in response to climate change on natural resources in the planning area is uncertain, but integrated management direction is needed to maintain or increase the resilience of the national forests in the face of these changes.

5. To recognize the interdependency of social and economic components with national forest management. The revised forest plans will place more emphasis on the relationships among the people who live, work, and play on the national forests. National forests provide a variety of recreation opportunities, work opportunities, and opportunities to practice cultural and spiritual traditions. Local communities provide infrastructure that contributes to the capacity of the national forests to restore and maintain ecological systems. Recognizing the mutual benefits of the relationships between social and economic components and the national forests is important to providing integrated management direction. This forest plan revision will be coordinated with equivalent and related planning efforts of other Federal agencies, State and local governments, and Indian tribes.

Proposed Action

The proposed action is a revision of the land management plans for the Colville, and Okanogan-Wenatchee National Forests designed to meet the purpose and need. It includes revised goals/desired conditions, objectives, standards, guidelines, suitable uses and activities, management area designations including special areas, and monitoring items. The proposed action can be found at the forest plan revision Web site: http://www.fs.fed.us/r6/wenatchee/forest-plan. Error! Hyperlink reference not valid.

Public Involvement

The Colville, and Okanogan-Wenatchee National Forests began this forest plan revision process in 2003. Public participation began in 2004 with community workshops. Workshops were held in Yakima, Cle Elum, North Bend, Wenatchee, Winthrop, Okanogan, Tonasket, Republic, Colville, Ione, Newport, and Spokane, Washington. Workshops were also held from 2005 to 2008. Meetings with representatives of the counties where the forests are located began in 2004 and are continuing. Government-to-government consultation with tribal nations and staff-to-staff consultation with their resource specialists began early in the process and will continue.

Public meeting dates are yet to be determined. At this time meetings are expected to be in the following locations: Yakima, Cle Elum, Seattle area, Wenatchee, Winthrop, Okanogan, Tonasket, Republic, Colville, Ione, and Spokane. Formal consultation with the governments of American Indian tribes is ongoing.

Lead and Cooperating Agencies

The Forest Service, USDA, is the lead agency. Cooperating agencies: State of Washington and its agencies, the Department of Natural Resources, Department of Fish and Wildlife, and Department of Ecology.

Name and Address of the Responsible Official

Kent Connaughton, Regional Forester, Pacific Northwest Region, 333 SW. 1st Street, PO Box 3623, Portland, Oregon 97208.

Nature of the Decision To Be Made

The Colville, and Okanogan-Wenatchee National Forests are preparing an EIS to revise the current forest plans. The EIS process is meant to inform the Regional Forester so that he can decide which alternative best meets the need to achieve quality land management under the sustainable multiple-use management concept to meet the diverse needs of people while protecting the forests' resources, as required by the National Forest Management Act and the Multiple Use Sustained Yield Act.

The revised forest plans provide guidance for all resource management activities on the Colville, and Okanogan-Wenatchee National Forests. Approval of the revised forest plans will result in the following plan components to guide management for the next 10 to 15 years:

• Goals/desired conditions;

• Objectives;

• Forest-wide standards and guidelines;

• Management area desired conditions, standards, and guidelines;

• Suitability of lands for uses and activities;

• Monitoring and evaluation requirements; and

• Recommendations may be made for special areas, such as Research Natural Areas, or areas that can only be designated by statute, such as Wilderness.

Goals/desired conditions provide a description of desired outcomes of forest management. Objectives provide projections of measurable outcomes intended to promote achievement of forest plan goals/desired conditions. Forest-wide standards and guidelines provide management direction and guidance that is applicable across the each national forest. Management Area desired conditions, standards, and guidelines provide direction that applies to specific geographic areas within the national forest. Identification of characteristics of lands for specific uses and activities provides integration between particular uses and desired conditions and objectives for areas on the national forest. Monitoring and evaluation indicates whether areas are trending toward goals/desired conditions so that needed adjustments can be made in the future. Special areas are places or areas within the National Forest System designated because of their unique or special characteristics. Some can be designated by the responsible official, such as a Botanical Area. Others, such as Wilderness or Wild and Scenic River designations, are recommended for designation by the responsible official, but Congressional act designates.

As important as the decisions to be made is the identification of the types of decisions that will not be made within the revised forest plan. The authorization of project-level activities on the forests is not a decision made in the forest plan but occurs through subsequent project specific decision-making. The designation of routes, trails, and areas for motorized vehicle travel are not considered during plan revision. Some issues (e.g., hunting regulations), although important, are beyond the authority or control of the national forests and will not be considered. In addition, some tasks, such as Wild and Scenic river suitability determinations, may not be undertaken at this time, but addressed later as a future forest plan amendment. Some process requirements of the Northwest Forest Plan would no longer be forest plan direction. Some of these requirements would be retained through administrative direction outside of forest plan revision.

Applicable Planning Rule

On December 18, 2009 the Department reinstated the previous planning rule, commonly known as the 2000 planning rule in the Federal Register (Federal Register, Volume 74, No. 242, Friday, December 18, 2009, pages 67059 thru 67075). The transition provisions of the reinstated rule (36 CFR 219.35 and appendices A and B) allow use of the provisions of the National Forest System land and resource management planning rule in effect prior to the effective date of the 2000 Rule (November 9, 2000), commonly called the 1982 planning rule, to amend or revise plans. The Colville, and Okanogan-Wenatchee National Forests have elected to use the provisions of the 1982 planning rule including the requirement to prepare an EIS, to complete plan revisions.

Although the 2008 planning rule is no longer in effect, information gathered prior to the court's injunction is useful for completing the plan revisions using the provisions of the 1982 planning rule. The revision team has concluded that the analyses begun or developed during the revision process to date are appropriate for continued use in the revision process.

Roadless Area Management Direction

The proposed action includes management direction for all national forest lands within the planning area, including lands identified as inventoried roadless areas (IRAs) in the Final Environmental Impact Statement for the 2001 Roadless Area Conservation Rule (RACR). There is currently a legal dispute regarding the status of the RACR, with one Federal Court (Wyoming District Federal Court, Judge Brimmer) finding the rule to be in conflict with law and enjoining its implementation and a different Federal Court (Northern California District Federal Court, Judge Laporte) reinstating that rule and prohibiting the Forest Service from taking any action that would have been prohibited under the RACR. The Forest Service is hopeful that current legal proceedings will resolve these conflicting court rulings.

The proposed action includes plan direction that retains the undeveloped character of Colville, and Okanogan-Wenatchee National Forests by including management areas that restrict road construction and timber harvest. This is based on analysis of the resources and management situation that the Forest Service has done in developing the proposed action and on extensive public involvement.

Comments received in the scoping process will help the agency determine the scope of issues related to roadless area management and guide the development of alternatives and analysis of environmental effects. The decision for the final plan will be consistent with the legal status of the RACR at the time the plan is signed.

Description of the Scoping Process

This notice of intent initiates the scoping process, which guides the development of the draft EIS. In scoping, the agency, with the assistance of the public, determines the scope of the issues to be addressed and identifies the significant issues related to the proposed action (see 40 CFR 1501.7).

It is important that reviewers provide their comments at such times and in such a way that they are useful to the Agency's preparation of the revised plan and the draft EIS. Therefore, comments should be provided prior to the close of the comment period and should clearly articulate the reviewers' concerns and contentions. The submission of timely and specific comments can affect a reviewer's ability to participate in subsequent administrative appeal or judicial review.

Comments received in response to this solicitation, including the names and addresses of those who comment will be part of the public record for this proposed action. Comments submitted anonymously will be accepted and considered.

Authority: 16 U.S.C. 1600-1614; 36 CFR 219.35 (74 FR 67073-67074).

Dated: June 8, 2011.
Kent P. Connaughton,
Regional Forester, Forest Service Pacific Northwest Region.

[FR Doc. 2011-15557 Filed 6-29-11; 8:45 am]

BILLING CODE 3410-11-P